DEPARTMENT OF HOMELAND SECURITY

Coast Guard

[USCG-2004-17090]

Towing Safety Advisory Committee

AGENCY: Coast Guard, DHS.

ACTION: Notice of meetings.

SUMMARY: The Towing Safety Advisory Committee (TSAC) and its working groups will meet as required to discuss various issues relating to shallow-draft inland and coastal waterway navigation and towing safety. All meetings will be open to the public.

DATES: TSAC will meet on Wednesday, March 17, 2004, from 8 a.m. to 2 p.m. The working groups will meet on the previous day, Tuesday, March 16, 2004, from 9 a.m. to 3:30 p.m. These meetings may close early if all business is finished. Written material for and requests to make oral presentations at the meetings should reach the Coast Guard on or before March 8, 2004. Requests to have a copy of your material distributed to each member of the Committee or working groups prior to the meetings should reach the Coast Guard on or before March 3, 2004.

ADDRESSES: TSAC will meet in Room 2415, U.S. Coast Guard Headquarters, 2100 Second Street SW., Washington, DC 20593-0001. The working groups will first meet in the same room and then, if necessary, move to separate spaces designated at that time. Send written material and requests to make oral presentations to Mr. Gerald P. Miante, Commandant (G-MSO-1), U.S. Coast Guard Headquarters, G-MSO-1, Room 1210, 2100 Second Street SW., Washington, DC 20593-0001. This notice and related documents are available on the Internet at http://dms.dot.gov under the docket number USCG-2004-17090.

FOR FURTHER INFORMATION CONTACT: Mr. Gerald P. Miante, Assistant Executive Director, telephone 202-267-0214, fax 202-267-4570, or e-mail at: gmiante@comdt.uscg.mil.

SUPPLEMENTARY INFORMATION: Notice of these meetings is given under the Federal Advisory Committee Act, 5 U.S.C. App. 2 (Pub. L. 92-463, 86 Stat. 770, as amended).

Agenda of Committee Meeting

The agenda tentatively includes the following items:

(1) Status Report of the Crew Alertness Working Group.

(2) Status Report of the Towing Vessel Regulatory Review Working Group.

(3) Status Report of the Maritime Security Working Group.

(4) Status Report of the Commercial/Recreational Boating Interface Working Group.

(5) Status Report of the Ammonium Nitrate Working Group.

(6) Status Report of the Mariner Deaths during Nighttime Barge Fleeting Operations Working Group.

(7) Status Report of the International Convention on Standards of Training, Certification and Watchkeeping for Seafarers, 1978, as amended (STCW) Implementation Working Group.

(8) Presentation on International Ship and Port Facility Security (ISPS) Code Compliance and Change 3 to Navigation and Vessel Inspection Circular (NVIC) 11-93.

(9) Presentation on Electronic Notice of Arrival.

(10) Presentation on Oversize and Overloaded Tows.

(11) Presentation on Record Keeping for Designated Examiners.

(12) Presentation on National Maritime Center (NMC) and Regional Exam Center (REC) Reorganization.

Procedural

All meetings are open to the public. Please note that the meetings may close early if all business is finished. Members of the public may make oral presentations during the meetings. If you would like to make an oral presentation at a meeting, please notify the Assistant Executive Director no later than March 8, 2004. Written material for distribution at a meeting should reach the Coast Guard no later than March 8, 2004. If you would like a copy of your material distributed to each member of the Committee or Working Groups in advance of a meeting, please submit 20 copies to the Assistant Executive Director no later than March 3, 2004. You may also submit this material electronically to the e-mail address in FOR FURTHER INFORMATION CONTACT, no later than March 8, 2004.

Information on Services for Individuals With Disabilities

For information on facilities or services for individuals with disabilities or to request special assistance at the meetings, contact the Assistant Executive Director as soon as possible.

Dated: February 11, 2004.
Howard L. Hime,
Acting Director of Standards, Marine Safety, Security and Environmental Protection.

[FR Doc. 04-3597 Filed 2-18-04; 8:45 am]

BILLING CODE 4910-15-P